DEPARTMENT OF ENERGY

Federal Energy Regulatory Commission

Combined Notice of Filings #1

May 21, 2010.

Take notice that the Commission received the following electric rate filings:

Docket Numbers: ER08-394-026.

Applicants: Midwest Independent Transmission System Operator, Inc.

Description: Midwest Independent Transmission System Operator, Inc. submits proposed revisions to its Open Access Transmission, Energy and Operating Reserves Markets Tariff etc.

Filed Date: 05/20/2010.

Accession Number: 20100521-0202.

Comment Date: 5 p.m. Eastern Time on Thursday, June 10, 2010.

Docket Numbers: ER10-1106-001.

Applicants: Pacific Gas and Electric Company.

Description: Pacific Gas and Electric Company submits tariff filing per 35: Correction to PG&E's GMC Baseline Filing to be effective 4/28/2010.

Filed Date: 05/21/2010.

Accession Number: 20100521-5062.

Comment Date: 5 p.m. Eastern Time on Friday, June 11, 2010.

Docket Numbers: ER10-1283-000.

Applicants: Southern California Edison Company.

Description: Southern California Edison submits a revised rate sheet reflecting the cancellation of a letter agreement with the City of Pasadena.

Filed Date: 05/20/2010.

Accession Number: 20100520-0211.

Comment Date: 5 p.m. Eastern Time on Thursday, June 10, 2010.

Docket Numbers: ER10-1284-000.

Applicants: San Diego Gas & Electric Company.

Description: San Diego Gas and Electric Company submits changes in their transmission revenue requirement and rate revisions related to changes to Post-Employment Benefits Other Than pensions expense levels.

Filed Date: 05/20/2010.

Accession Number: 20100520-0210.

Comment Date: 5 p.m. Eastern Time on Thursday, June 10, 2010.

Docket Numbers: ER10-1285-000.

Applicants: Craven County Wood Energy Limited Partnership.

Description: Craven County Wood Energy Limited Partnership submits tariff filing per 35.12: Craven County Wood Energy LP FERC Schedule No. 1 Electric Tariff to be effective 5/24/2010.

Filed Date: 05/21/2010.

Accession Number: 20100521-5016.

Comment Date: 5 p.m. Eastern Time on Friday, June 11, 2010.

Docket Numbers: ER10-1286-000.

Applicants: Portland General Electric Company.

Description: Portland General Electric Company submits a second amendment to its Electric Rate Schedule FERC No. 78 et al.

Filed Date: 05/20/2010.

Accession Number: 20100521-0201.

Comment Date: 5 p.m. Eastern Time on Thursday, June 10, 2010.

Docket Numbers: ER10-1287-000.

Applicants: Grayling Generation Station Limited Partnership.

Description: Grayling Generation Station Limited Partnership submits tariff filing per 35.12: Grayling Generating Station LP FERC Schedule No. 1 Electric Tariff to be effective 5/24/2010.

Filed Date: 05/21/2010.

Accession Number: 20100521-5020.

Comment Date: 5 p.m. Eastern Time on Friday, June 11, 2010.

Docket Numbers: ER10-1288-000.

Applicants: Exeter Energy Limited Partnership.

Description: Exeter Energy Limited Partnership submits tariff filing per 35.12: Exeter Energy Limited Partnership (“Exeter”) FERC Schedule No. 1 Electric Tariff to be effective 5/24/2010.

Filed Date: 05/21/2010.

Accession Number: 20100521-5037.

Comment Date: 5 p.m. Eastern Time on Friday, June 11, 2010.

Take notice that the Commission received the following electric securities filings:

Docket Numbers: ES10-43-000.

Applicants: El Paso Electric Company.

Description: Application of El Paso Electric Company for Authorization under Section 204 of the FPA.

Filed Date: 05/19/2010.

Accession Number: 20100519-5126.

Comment Date: 5 p.m. Eastern Time on Wednesday, June 09, 2010.

Docket Numbers: ES10-44-000.

Applicants: Orange and Rockland Utilities, Inc.

Description: Application Pursuant to Section 204 of Orange and Rockland Utilities, Inc. for Authority to Issue and Sell Short Term Debt.

Filed Date: 05/21/2010.

Accession Number: 20100521-5045.

Comment Date: 5 p.m. Eastern Time on Friday, June 11, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St, NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-12984 Filed 5-28-10; 8:45 am]

BILLING CODE 6717-01-P